ENVIRONMENTAL PROTECTION AGENCY

[FRL—6837-7]

Science Advisory Board; Notification of Public Advisory Committee Meetings

Pursuant to the Federal Advisory Committee Act, Public Law 92-463, notice is hereby given of two meetings of Committees of the US EPA Science Advisory Board on the dates and times noted below. All times noted are Eastern Daylight Time. All meetings are open to the public, however, seating is limited and available on a first come basis. Important Notice: Documents that are the subject of SAB reviews are normally available from the originating EPA office and are not available from the SAB Office—information concerning availability of documents from the relevant Program Office is included below.

1. Radiation Advisory Committee (RAC) Teleconference—August 1, 2000

The Science Advisory Board's (SAB) Radiation Advisory Committee (RAC) will conduct a public teleconference meeting on Tuesday, August 1, 2000, between the hours of 11:00 a.m.-2:00 p.m (Eastern Daylight Time). The meeting will be coordinated through a conference call connection in Room 6013 in the Ariel Rios Building North, 1200 Pennsylvania Avenue, NW, Washington, DC 20004 (adjacent to the escalator to the Federal Triangle Metro Station on 12th Street NW). The public is welcome to attend the meeting in person or through a telephonic link, to the extent that lines are available (phone lines will be very limited). Additional instructions about how to participate in the conference call can be obtained by calling Ms. Diana Pozun at (202) 564-4544, or via e-mail at: pozun.diana@epa.gov by Thursday, July 27, 2000.

Purpose of the Meeting—At this meeting the RAC plans to review and recap the EPA's response to the Committee's Low Activity Mixed Waste Advisory (EPA-SAB-RAC-ADV-99-006), receive a brief overview presentation on a Multi-Agency Radiation Laboratory Analytical Protocols (MARLAP) Manual by the Office of Radiation and Indoor Air (SAB Project 00-22), and tentatively have a discussion on RAC FY2001 self-initiated projects and other Agency proposed FY2001 projects.

Availability of Review Materials: Single copies of the EPA response to the RAC's Low Activity Mixed Waste Advisory (EPA-SAB-RAC-ADV-99-006) USEPA are available from Ms. Diana Pozun, Radiation Advisory Committee, Science Advisory Board (1400A), U.S. EPA, 1200 Pennsylvania Avenue, NW, Washington, DC 20460. Ms. Pozun can also be reached by telephone at (202) 564-4544, fax at (202) 501-0582, or e-mail: pozun.diana@epa.gov. The Committee's report (EPA-SAB-RAC-ADV-99-006) is available on the SAB Website (www.epa.gov/sab) under the Reports heading. An electronic copy of the overview of MARLAP is available at the website address: http://www.epa.gov/radiation/marlap/ by clicking on the underlined hotlink titled “Introduction to MARLAP”.

For Further Information: Members of the public desiring additional information about the meeting should contact Ms. Melanie Medina-Metzger, Designated Federal Officer, Radiation Advisory Committee, Science Advisory Board (1400A), Suite 6450, U.S. EPA, 1200 Pennsylvania Avenue, NW, Washington, DC 20460; telephone/voice mail at (202) 564-5987; fax at (202) 501-0582; or via e-mail at medina-metzger.melanie@epa.gov. A copy of the draft agenda is available from Ms. Diana Pozun at (202) 564-4544 or by FAX at (202) 501-0582 or via e-mail at pozun.diana@epa.gov. Members of the public who wish to make a brief oral presentation to the Committee (in Room 6013 only) must contact Ms. Medina-Metzger in writing (by letter or by fax—see previously stated information) no later than 12 noon Eastern Standard Time, Friday, July 28, 2000 in order to be included on the Agenda. Public comments will be limited to five minutes per speaker or organization; 15 minutes total. The request should identify the name of the individual making the presentation, and the organization (if any) that they will represent. Please note: If we receive more requests than we can accommodate, time of receipt of the materials at the office will determine priority, with the first three requests granted time (additional requests may be granted to the extent that time is available, as determined by the RAC Chair at the time of the meeting). All others will have to provide written comments. Written comments of any length may be submitted to Ms. Medina-Metzger at any time until the date of the meeting.

2. Drinking Water Committee (DWC) Meeting—August 8-9, 2000

The Drinking Water Committee of the US EPA Science Advisory Board (SAB), will meet on August 8 and 9, 2000 in Room 120/126 of the Andrew W. Breidenbach Environmental Research Center, 26 West Martin Luther King Drive, Cincinnati, OH 45268; telephone (513) 569-7772. The meeting will begin at 9:00 a.m. on August 8 and adjourn no later than 3:00 p.m. on August 9, 2000.

Purpose of the Meeting—The Drinking Water Committee will conduct a review of EPA's draft research plan in support of the Safe Drinking Water Act's Candidate Contaminant Listing (CCL) program. The Committee will also complete its deliberations on the EPA proposed arsenic drinking water regulation and discuss possible interactions it might have with the Agency on the pending Microbial/Disinfection Byproduct Stage 2 rule-making proposal.

Background—(a) Research Plan for Candidate Contaminant Listing (CCL)—The Safe Drinking Water Act (SDWA), as amended in 1996, requires the EPA to establish a list of unregulated microbiological and chemical contaminants to aid in priority setting for the Agency's drinking water program. A new list must be published every five years. The first Contaminant Candidate List (CCL1) was first proposed by EPA in 1997 and was then finalized in 1998, following extensive consultation with stakeholders.

The Agency must select five or more contaminants from the CCL1 and determine, by August 2001, whether they should be regulated. To support these decisions, the Agency will have to evaluate when and where these contaminants occur, the extent of exposure and risk to public health, and determine if cost effective control methods are available.

EPA has sorted CCL1 contaminants into categories depending upon whether they need additional research (Research or Occurrence Priorities categories) or have sufficient data for the evaluation of exposure and risk to public health, and therefore enough data to support a drinking water standard (Regulatory Determination Priorities category). The contaminants considered for selection and regulatory determination by August 2001 will be drawn from the Regulatory Determination category and are not duplicated under the Research or Occurrence Priorities categories.

A Research Plan has been prepared to describe the nature, timing and priority of research needed in order to meet the CCL research information needs of the Agency. The plan focuses on contaminants that are on CCL1. Nevertheless, it is important for some research to be conducted on emerging pathogens and chemicals to ensure that any future CCL includes contaminants that are of potential public health concern. The SAB has been asked to review this plan.

(b) Proposed Arsenic Drinking Water Standard—The DWC met from June 5-7, 2000 to discuss various elements of the proposed EPA proposal for an arsenic drinking water standard (for further information, see 65 FR 30589-30590). The charge questions were discussed by panelists and a number of conclusions reached on responses. The report to EPA is now being drafted to convey the SAB's advice on the arsenic proposal. The discussion at the August 8-9, 2000 DWC meeting will focus on, and reach closure on, any remaining issues that are identified as the Committee reviews and comments on its draft report to the Administrator.

Charge to the Committee—(a) CCL—EPA asks whether: (i) It considered the appropriate existing information about CCL contaminants in formulating the Plan; (ii) it identified the key science questions; (iii) they identified appropriate research by subject and scope to address the identified science questions; (iv) the relative priorities and timetable proposed for the planned research are appropriate; and (v) the process used to identify data gaps and prioritize research needs is sound.

(b) Arsenic—Questions asked of the DWC for the June arsenic review included: (i) Concentration on inorganic arsenic as principal form causing health effects—Does the SAB have perspectives on this issue that it believes EPA should consider in developing its risk assessment?

(ii) Implications of natural arsenic exposure through food—Does SAB agree with the implied NRC perspective that relative source contribution of food should be taken into consideration in the setting of the drinking water standard and how might we consider this and communicate it to the public?

(iii) Accounting for Cardiovascular Health End Point—Is precautionary advice on use of low-arsenic water in preparation of infant formula appropriate given the available information?

(iv) Decision tree for waste disposal options for arsenic treatment brines and spent media—Based upon a review of the submitted materials, does the SAB believe that the EPA produced an accurate projection of the likely disposal options for arsenic residuals and the distribution of these options by treatment type? What are the SAB's views on the advantages and the limitations of the various waste disposal options? What effect, if any, would the SAB's analysis of these advantages and limitations have on the probabilities assigned? What are the SAB's views on which options will be more likely used by small systems (less than 10,000 people), and which will be more likely used by larger ones?

(v) Decision tree for ground water treatment technologies—Does the SAB agree with the principal “branches” of EPA's decision tree described in the submitted documents and the likelihood that these options will be used for systems of various sizes with various source water characteristics? What views does the SAB have on EPA's description of the advantages and limitations of these treatment technologies? Would the SAB's views on these advantages and limitations affect the probabilities assigned?

Availability of Review Materials—Additional information on the materials provided to the Committee for its arsenic review can be obtained by contacting Ms. Irene Dooley, US EPA Office of Water by telephone at (202) 260-9531 or by e-mail at dooley.irene@epa.gov. Additional information on the materials provided to the Committee for its CCL Research Plan review can be obtained by contacting Dr. Robert Clark, US EPA, National Risk Management Research Laboratory, Cincinnati, OH by telephone at (513) 569-7201 or by e-mail at clark.robertm@epa.gov.

For Further Information—Any member of the public wishing further information concerning this meeting or wishing to submit brief oral comments (10 minutes or less) must contact Thomas O. Miller, Designated Federal Officer, Science Advisory Board (1400A), U.S. Environmental Protection Agency, 1200 Pennsylvania Avenue, NW, Washington, DC 20460; telephone (202) 564-4558; FAX (202) 501-0582; or via e-mail at miller.tom@epa.gov. Requests for oral comments must be in writing (e-mail, fax or mail) and received by Mr. Miller no later than noon Eastern Time on August 2, 2000.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: One hard copy with original signature, and one electronic copy via e-mail (acceptable file format: WordPerfect, Word, or Rich Text files (in IBM-PC/Windows 95/98 format). Those providing written comments and who attend the meeting are also asked to bring 25 copies of their comments for public distribution.

General Information—Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact the appropriate DFO at least five business days prior to the meeting so that appropriate arrangements can be made.

Dated: July 10, 2000.
John R. Fowle, III,
Acting Staff Director, Science Advisory Board.

[FR Doc. 00-18028 Filed 7-14-00; 8:45 am]

BILLING CODE 6560-50-P